DEPARTMENT OF TRANSPORTATION

Federal Aviation Administration

14 CFR Part 71

[Docket No. FAA-2025-1187; Airspace Docket No. 24-AWP-84]

RIN 2120-AA66

Modification and Revocation of Class E Airspace; Hawaiian Islands, HI

AGENCY: Federal Aviation Administration (FAA), DOT.

ACTION: Final rule.

SUMMARY: This action modifies the Class E5 airspace areas extending upward from 700 feet above the surface at Lihue Airport (LIH), Lihue, HI; Daniel K. Inouye International Airport (HNL), Honolulu, HI; and Ellison Onizuka Kona International at Keahole Airport (KOA), Kailua-Kona, HI, by adding an additional layer of Class E5 airspace area extending upward from 1,200 feet above the surface. This action complies with the international laws and treaties, and satisfies the State of Hawaii's domestic airspace requirements. Additionally, this action revokes the portions of the existing Class E5 airspace area 1,200 feet above the surface that extends beyond 12 miles from the shorelines of the Hawaiian Islands into international airspace. This action further modifies the Class E4 airspace area designated as an extension to a Class D or Class E surface area at KOA and revokes the Class E4 airspace area at LIH. These actions support the safe and efficient management of instrument flight rules (IFR) operations at airports within the Hawaiian Islands.

DATES: Effective date 0901 UTC, January 22, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/.

FOR FURTHER INFORMATION CONTACT: Keith T. Adams, Federal Aviation Administration, Western Service Center, Operations Support Group, 2200 S 216th Street, Des Moines, WA 98198; telephone: (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it revokes the Class E5 1,200 feet above the surface airspace area designated as the “Hawaiian Islands” and the Class E4 airspace area at LIH, and modifies the Class E4 airspace area at KOA and the Class E5 700 feet above the surface airspace areas at LIH, HNL, and KOA. These actions comply with international laws and treaties, while also supporting IFR operations for the State of Hawaii.

History

The FAA published an NPRM for Docket No. FAA 2025-1187 in the Federal Register (87 FR 36400; August 4, 2025), proposing to: (a) modify the Class E5 airspace areas 700 feet above the surface at Lihue Airport, Lihue, HI; Daniel K. Inouye International Airport, Honolulu, HI; and Ellison Onizuka Kona International at Keahole Airport, Kailua-Kona, HI; (b) revoke the Class E5 airspace area 1,200 feet above the surface surrounding the Hawaiian Islands; (c) modify the Class E4 airspace area for KOA; and (d) revoke the Class E4 airspace area for LIH. This action complies with the international law associated with United Nations Convention on the Law of the Sea (UNCLOS) and the international treaties provision from Proclamation 5928, Territorial Sea of the United States. A final rule issued by the FAA in 2019 rule incorrectly applied the concept of “archipelagic states” under UNCLOS to justify connecting the islands with contiguous Class E airspace. However, FAA has since determined that because Hawaii is a U.S. state, it is not an archipelagic state under international law, and therefore is not entitled to such treatment. This notice proposes corrective action to realign the Hawaiian Class E airspace with U.S. jurisdiction and international legal standards, restricting it to airspace over U.S. land and territorial waters.

Interested parties were invited to participate in this rulemaking effort by submitting written comments on the proposal to the FAA. Two comments were received in favor of the airspace proposal.

One commenter recommended that the FAA consider additional clarification to the flying public regarding aircraft separation standards while transiting between the Hawaiian Islands in situations where flight operations may transition between domestic and international airspace boundaries.

The FAA acknowledges the commenter's suggestion. However, aircraft separation standards do not change in this context, as the FAA has been delegated controlling authority for air traffic service in the Hawaiian region, both domestically and internationally.

One commenter suggested that the FAA “provide a brief environmental review on the potential impacts of modified approach procedures to the local community and sensitive habitat.”

The comment is not germane to the scope of this airspace action. The FAA's action modifies only the controlled airspace areas associated with Hawaiian Islands; it does not modify approach procedures for any of the Hawaiian airports, although some airspace boundaries are modified to better contain existing procedures. The potential environmental impacts of this action have been addressed under the FAA's environmental review process, as discussed below, and after evaluation was determined to qualify for categorical exclusion rather than a higher level of environmental review.

Differences From the NPRM

The FAA is modifying the airport reference points (ARP) geographic coordinates used in the airspace legal description for the Class E5 airspace area associated with HNL, Class E4 and Class E5 airspace areas associated with KOA, as proposed in the NPRM. However, in addition to those proposed changes, this final rule also modifies the ARP geographic coordinates within the Class E5 airspace area legal description. These changes align with the FAA's aeronautical database.

These changes are needed to maintain consistency with the proposed controlled airspace areas parameters. Specifically, the FAA has substituted alternative geographical coordinates (Point in Space) to replace previously used reference points to describe the airspace boundaries associated with the legal descriptions of the airports' controlled airspace areas.

These changes are minor and ministerial in nature, and do not impose additional requirements on regulated parties. Accordingly, the FAA finds good cause to bypass additional notice and comment.

Incorporation by Reference

Class E4 and Class E5 airspace areas are published in paragraphs 6004 and 6005, respectively, of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying Class E5 airspace areas 700 feet above surface at LIH, HNL, and KOA. Additionally, this action revokes the Class E5 airspace area extending upward from 1,200 feet above the surface over the Hawaiian Islands. The Class E5 (1,200 feet above the surface) airspace area is redefined to comply with U.S. territorial boundaries and international airspace sovereignty provisions by limiting the airspace to 12 miles from the State's coastline, as explained above. Each of the three airports' Class E5 (700 feet above the surface) airspace areas are modified to include an additional layer of Class E5 (1,200 feet above the surface) airspace area, designed to contain its respective island groups' territorial lands and coastal waters.

The LIH Class E5 (700 feet above the surface) airspace area is modified to incorporate additional Class E5 airspace area extending upward from 1,200 feet above the surface that encompasses the islands of Kauai and Niihau, and the islet of Kaula, limited to 12 miles from the coastline. The Class E5 (700 feet above the surface) airspace area is also modified to better contain the Very High Frequency Omnidirectional Range (VOR) or Tactical Air Navigation (TACAN) Runway (RWY) 21 instrument approach procedure for LIH, extending upward from 700 feet above the surface within a 4.3-mile radius of the airport, and extending to the 7.3-mile radius between the airport's 354° bearing clockwise to the 192° bearing.

In addition, the Class E airspace area designated as an extension to a Class D or Class E surface area (Class E4 airspace area) is revoked, as arriving aircraft descends through 1,000 feet above the surface are already contained within the LIH Class D and Class E surface areas.

The HNL Class E5 (700 feet above the surface) airspace area is modified to incorporate an additional Class E5 (1,200 feet above the surface) airspace area that encompasses the islands of Oahu, Molokai, Lanai, Kahoolawe, and Maui, but limited to 12 miles from the coastline. Additionally, the legal description for the Honolulu Class E5 (700 feet above the surface) airspace area is updated as follows: (1) the location is amended from Honolulu International Airport to Honolulu, and (2) the airport's name is amended from Honolulu International Airport to Daniel K. Inouye International Airport.

The KOA Class E5 (700 feet above the surface) airspace area is modified to incorporate an additional Class E5 (1,200 feet above the surface) airspace area encompassing the island of Hawaii, but limited to 12 miles from the coastline. The KOA Class E5 (700 feet above the surface) airspace area is also modified to better contain the VOR Distance Measuring Equipment (DME)/TACAN RWY 17 approach procedures. The amended Class E5 (700 feet above the surface) airspace area extends upward from 700 feet above the surface within the airport's 7.4-mile radius, and within 4 miles of either side of the airport's Point in Space Alpha 002° bearing, extending from the airport's 7.4-mile radius to 11 miles north. Additionally, the KOA Class E4 airspace area is modified to better contain the previously mentioned instrument approach procedures descending through 1,000 feet above the surface, extending upward from the surface within 2.8 miles either side of the airport's Point in Space Alpha 186° bearing, extending from the airport's 4.3-mile radius to 5.7 miles south, and within 3.6 miles either side of the airport's Point in Space Alpha 002° bearing, extending from the airport's Point in Space Alpha 4.3-mile radius to 9.5 miles north. Lastly, the airport name was updated in its legal description from Kona International Airport at Keahole to Ellison Onizuka Kona International at Keahole Airport.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act (42 U.S.C. 4321, et seq.) and in accordance with FAA Order 1050.1G, “FAA National Environmental Policy Act Implementing Procedures,” paragraph B-2.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11K, Airspace Designations and Reporting Points, dated August 4, 2025, and effective September 15, 2025, is amended as follows:

Paragraph 6004 Class E Airspace Designated as an Extension to a Class D or Class E Surface Area.

* * * * *

AWP HI E4 Kailua-Kona, HI [Amended]

Ellison Onizuka Kona International at Keahole Airport, HI

(Lat. 19°44′00″ N, long. 156°02′46″ W)

Point in Space Alpha

(Lat. 19°44′20″ N, long. 156°02′44″ W)

That airspace extending upward from the surface within 2.8 miles each side of the Point in Space Alpha 186° bearing extending from the Point in Space Alpha 4.3-mile radius to 5.7 miles south, and within 3.6 miles each side of the Point in Space Alpha 002° bearing extending from the Point in Space Alpha 4.3-mile radius to 9.5 miles north.

* * * * *

AWP HI E4 Lihue HI [Removed]

Lihue Airport, HI

(Lat. 21°58′34″ N, long. 159°20′20″ W)

That airspace extending upward from the surface within that airspace beginning at lat. 21°54′25″ N, long. 159°21′36″ W, thence clockwise to lat. 21°58′15″ N, long. 159°15′42″ W; to lat. 21°55′03″ N, long. 159°12′10″ W; to lat. 21°51′03″ N, long. 159°11′05″ W; to lat. 21°50′34″ N, long. 159°21′50″ W, thence to the point of beginning.

* * * * *

Paragraph 6005 Class E Airspace Areas Extending Upward From 700 Feet or More Above the Surface of the Earth.

* * * * *

AWP HI E5 Lihue, HI [Amended]

Lihue Airport, HI

(Lat. 21°58′34″ N, long. 159°20′20″ W)

That airspace extending upward from 700 feet above the surface within a 4.3-mile radius of the airport, and within an area between the airport's 354° bearing clockwise to the 192° bearing between the 4.3-mile radius and the 7.3-mile radius; and that airspace extending upward from 1,200 feet above the surface within 12 miles of the shoreline of the islands of Kauai, Niihau, and Kaula.

* * * * *

AWP HI E5 Honolulu, HI (Amended)

Daniel K. Inouye International Airport, HI

(Lat. 21°19′04″ N, long. 157°55′13″ W)

Point in Space Alpha

(Lat. 21°18′30″ N, long. 157°55′50″ W)

Point in Space Bravo

(Lat. 21°18′26″ N, long. 158°04′13″ W)

That airspace extending upward from 700 feet above the surface at Daniel K. Inouye International Airport beginning at a line bounded from lat. 21°20′19″ N, long. 157°49′00″ W, to lat. 21°16′31.15″ N, long. 157°45′11.19″ W, thence east bound along the shoreline to intercept the Point in Space Alpha 15-mile radius, thence clockwise along the Point in Space Alpha 15-mile radius to intercept the Point in Space Alpha 241° bearing, thence northeast bound along the Point in Space Alpha 241° bearing to intercept the Point in Space Bravo 4.3-mile radius, thence counterclockwise along the Point in Space Bravo 4.3-mile radius to intercept the Point in Space Alpha 5-mile radius, thence counterclockwise along the Point in Space Alpha 5-mile radius to intercept the Point in Space Alpha 106° bearing, thence westbound along the Point in Space Alpha 106° bearing to intercept the Point in Space Alpha 4-mile radius, thence counterclockwise along the Point in Space Alpha 4-mile radius to intercept the Point in Space Alpha 071° bearing, thence to the point of beginning, excluding that portion beyond 12 miles of the coastline; and that airspace beginning at lat. 21°10′25″ N, long. 158°11′22″ W; to lat. 21°16′05″ N, long. 158°14′35″ W; to lat. 21°16′30″ N, long. 158°13′46″ W; to lat. 21°16′50″ N, long. 158°00′00″ W; to the point of beginning; and that airspace extending upward from 1,200 feet above the surface within 12 miles of the shoreline of the islands of Oahu, Molokai, Lanai, Maui, and Kahoolawe.

* * * * *

AWP HI E5 Kailua-Kona, HI [Amended]

Ellison Onizuka Kona International at Keahole Airport, HI

(Lat. 19°44′00″ N, long. 156°02′46″ W)

Point in Space Alpha

(Lat. 19°44′20″ N, long. 156°02′44″ W)

That airspace extending upward from 700 feet above the surface within a 7.4-mile radius of Point in Space Alpha, and within 4 miles each side of the Point in Space Alpha 002° bearing extending from the 7.4-mile radius to 11 miles north; and that airspace extending upward from 1,200 feet above the surface within 12 miles off the coastline of the Island of Hawaii.

* * * * *

AWP HI E5 Hawaiian Islands, HI [Removed]

That airspace extending upward from 1,200 feet above the surface within 12 NM of the Hawaiian Islands' shoreline beginning at lat. 22°06′28″ N, long. 159°04′39″ W, to lat. 21°46′57″ N, long. 158°14′41″ W, to 12 NM from the shoreline of Oahu. Thence, clockwise along the line 12 NM from and parallel to the shoreline of the State of Hawaii, to lat. 20°30′29″ N, long. 155°53′40″ W, to lat. 20°28′08″ N, long. 155°52′03″ W, to 12 NM from the shoreline of Hawaii. Thence, clockwise along the line 12 NM from and parallel to the shoreline of Hawaii to lat. 20°03′26″ N, long. 156°05′30″ W, to lat. 20°22′48″ N, long.156°18′51″ W, to 12 NM from the shoreline of Maui. Thence clockwise along the line 12 NM from and parallel to the shoreline of the State of Hawaii, to lat. 21°25′19″ N, long. 158°26′08″ W, to lat. 21°44′34″ N, long. 159°15′27″ W, to 12 NM from the shoreline of Kauai. Thence, clockwise along the line 12 NM from and parallel to the shoreline of the State of Hawaii to the beginning.

* * * * *

Issued in Des Moines, Washington, on November 24, 2025.
B.G. Chew,
Group Manager, Operations Support Group, Western Service Center.

[FR Doc. 2025-21291 Filed 11-25-25; 8:45 am]

BILLING CODE 4910-13-P